DEPARTMENT OF LABOR

Employment and Training Administration

[TA-W-52,581]

Vaughan Furniture Company, Inc., Johnson City, Tennessee; Notice of Termination of Investigation

Pursuant to section 221 of the Trade Act of 1974, as amended, an investigation was initiated on August 18, 2003, in response to a worker petition filed by a company official on behalf of workers at Vaughan Furniture Company, Inc., Johnson City, Tennessee.

The petitioner has requested that the petition be withdrawn. Consequently, the investigation has been terminated.

Signed at Washington, DC, this 21st day of August, 2003.
Elliott S. Kushner,
Certifying Officer, Division of Trade Adjustment Assistance.

[FR Doc. 03-23722 Filed 9-16-03; 8:45 am]

BILLING CODE 4510-30-P